DEPARTMENT OF JUSTICE

Notice of Lodging of Proposed Consent Decree Under the Safe Drinking Water Act

On August 15, 2014, the Department of Justice lodged a proposed Third Supplement to the Consent Decree (“Third Supplement”) with the United States District Court for the Eastern District of New York in the lawsuit entitled United States, et al. v. City of New York and New York City Department of Environmental Protection, Civil Action No. CV 97-2154.

This settlement resolves the United States' claims against Defendants City of New York and New York City Department of Environmental Protection (collectively “NYC”) for their failure to meet the milestones for completion and commencement of operation of the Croton Filtration Plant contained in the Second Supplement to the Consent Decree in this action.

On April 15, 2014, NYC completed construction of the Croton Filtration Plant. The proposed Third Supplement will require NYC to commence operation of the Croton Filtration Plant by May 17, 2015. The Third Supplement provides that if NYC fails to meet this milestone, it will pay a $65 million stipulated penalty. The Third Supplement further provides that NYC must demonstrate that it can deliver the full 290 million gallons per day (“mgd”) design capacity of treated water into the City Drinking Water Distribution System. In addition, NYC is required to demonstrate that it can successfully operate the Croton Filtration Plant and reliably deliver water to its distribution system during a twelve month period before the Third Supplement may be terminated.

The publication of this notice opens a period for public comment on the Third Supplement. Comments should be addressed to the Assistant Attorney General, Environment and Natural Resources Division, and should refer to United States, et al. v. City of New York and New York City Department of Environmental Protection, D.J. Ref. No. 90-5-1-1-4429. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Third Supplement may be examined and downloaded at this Justice Department Web site: http://www.usdoj.gov/enrd/Consent_Decrees.html. We will provide a paper copy of the Third Supplement upon written request and payment of reproduction costs. Please mail your request and payment to: Consent Decree Library, U.S. DOJ—ENRD, P.O. Box 7611, Washington, DC 20044-7611.

Please enclose a check or money order for $15.50 (25 cents per page reproduction cost) payable to the United States Treasury.

Maureen M. Katz,
Assistant Section Chief, Environmental Enforcement Section, Environment and Natural Resources Division.

[FR Doc. 2014-19810 Filed 8-20-14; 8:45 am]

BILLING CODE 4410-15-P